DEPARTMENT OF COMMERCE

International Trade Administration

A-533-809

Certain Forged Stainless Steel Flanges from India; Final Results of Antidumping Duty Administrative Review and Rescission in Part

AGENCY: Import Administration, International Trade Administration, Department of Commerce.

SUMMARY: On March 5, 2008, the Department of Commerce (the Department) published the preliminary results of the administrative review of the antidumping duty order on certain forged stainless steel flanges (stainless steel flanges) from India manufactured by Shree Ganesh Forgings, Ltd. (Shree Ganesh) and Nakshatra Enterprises Pvt., Ltd. (Nakshatra) covering the period February 1, 2006, through January 31, 2007. See Certain Forged Stainless Steel Flanges from India; Preliminary Results of Antidumping Duty Administrative Review and Intent to Rescind Administrative Review in Part, 73 FR 11863 (March 5, 2008) (Preliminary Results). Based on further analysis of our computations for Shree Ganesh, we have made changes in the margin calculation; therefore, the final results differ from the preliminary results for Shree Ganesh. The final weighted-average dumping margin for Shree Ganesh is listed below in the section entitled, “Final Results of Review.” We are also rescinding the review for Nakshatra because we have determined that it had no bona fide U.S. sales during the period of review.

EFFECTIVE DATE: May 29, 2008.

FOR FURTHER INFORMATION CONTACT: Fred Baker or Robert James, AD/CVD Operations, Office 7, Import Administration, International Trade Administration, U.S. Department of Commerce, 14th Street and Constitution Avenue, NW, Washington, DC 20230; telephone: (202) 482-2924 or (202) 482-0649, respectively.

SUPPLEMENTARY INFORMATION:

Background

On March 5, 2008, the Department published the Preliminary Results. In response to the Department's invitation to comment on the preliminary results of review, Shree Ganesh submitted two sets of comments. However, we received these comments after the deadline for submitting comments, and they were not filed in proper form. Therefore, we returned them to Shree Ganesh, and have not considered them in these final results of review. See the Department's letter to Shree Ganesh dated April 17, 2008.

We also received a request from the law firm of Miller Chevalier to extend the briefing period to allow for further briefing on behalf of Shree Ganesh. We received this request from Miller Chevalier on April 7, 2008, after the comment period had already closed. We denied the request. See the Department's letter to Miller Chevalier dated April 17, 2008.

We received no comments from Nakshatra.

Period of Review

The period of review (POR) is February 1, 2006, to January 31, 2007.

Scope of the Order

The products covered by this order are certain forged stainless steel flanges, both finished and not finished, generally manufactured to specification ASTM A-182, and made in alloys such as 304, 304L, 316, and 316L. The scope includes five general types of flanges. They are weld-neck, used for butt-weld line connection; threaded, used for threaded line connections; slip-on and lap joint, used with stub-ends/butt-weld line connections; socket weld, used to fit pipe into a machined recession; and blind, used to seal off a line. The sizes of the flanges within the scope range generally from one to six inches; however, all sizes of the above-described merchandise are included in the scope. Specifically excluded from the scope of this order are cast stainless steel flanges. Cast stainless steel flanges generally are manufactured to specification ASTM A-351. The flanges subject to this order are currently classifiable under subheadings 7307.21.1000 and 7307.21.5000 of the Harmonized Tariff Schedule (HTS). Although the HTS subheadings are provided for convenience and customs purposes, the written description of the merchandise under review is dispositive of whether or not the merchandise is covered by the scope of the order.

Partial Rescission of Review

In the preliminary results, we stated that we intended to rescind the review with respect to Nakshatra because we had determined, based on the totality of the circumstances, that Nakshatra's U.S. sales were not bona fide. See Preliminary Results at 11866. Nakshatra submitted no comments, and we have found no basis for changing the determination announced in the preliminary results. Therefore we are rescinding the review with respect to Nakshatra.

Changes Since the Preliminary Results

Based on our analysis of the computer programming used in the preliminary results, we have made the following changes to the margin calculation for Shree Ganesh:

• We changed the names of two of the data sets to ensure use of the proper data;

• We removed language converting the variables for packing (PACKU) and total cost of manufacture (TCOMU) into U.S. dollars because the currency conversion for those variables is made later in the program;

• We removed language converting variable cost of manufacturing (VCOMU) into U.S. dollars because the conversion was unnecessary;

• We deleted references to constructed value (CV) data because Shree Ganesh did not submit a separate CV data base;

• We removed some of the language from the macro program because it was overriding some of the language written into the SAS program.

See the final results analysis memorandum for additional details.

Final Results of Review

As a result of our review, the Department finds the following weighted-average dumping margin exists for the period February 1, 2006, through January 31, 2007:

Manufacturer/Exporter | Margin (percent)
Shree Ganesh Forgings, Ltd. | 42.93

Assessment

The Department will determine, and U.S. Customs and Border Protection (CBP) shall assess, antidumping duties on all appropriate entries, pursuant to section 751(a)(1) of the Tariff Act of 1930, as amended (the Tariff Act), and 19 CFR 351.212(b). The Department calculated an assessment rate for each importer of the subject merchandise covered by the review.

For any importer-specific assessment rates calculated in the final results that are above de minimis (i.e., at or above 0.50 percent), we will issue appraisement instructions directly to CBP to assess antidumping duties on appropriate entries by applying the assessment rate to the entered value of the merchandise. We will issue assessment instructions to CBP fifteen days after publication of these final results of review.

The Department clarified its “automatic assessment” regulation on May 6, 2003. See Notice of Policy Concerning Assessment of Antidumping Duties, 68 FR 23954 (May 6, 2003). This clarification will apply to entries of subject merchandise during the POR produced by Shree Ganesh for which Shree Ganesh did not know the merchandise was destined for the United States. In such instances, we will instruct CBP to liquidate unreviewed entries at the 162.14 percent all-others rate if there is no company-specific rate for an intermediary involved in the transaction. See id. for a full discussion of this clarification.

Cash Deposit Requirements

The following cash deposit requirements will be effective upon publication of these final results for all shipments of the subject merchandise entered, or withdrawn from warehouse, for consumption on or after the publication date of these final results of administrative review, consistent with section 751(a)(1) of the Tariff Act: (1) the cash deposit rate for the reviewed company will be the rate listed above; (2) if the exporter is not a firm covered in this review, but was covered in a previous review or the original less-than-fair-value (LTFV) investigation, the cash deposit rate will continue to be the company-specific rate published for the most recent period; (3) if the exporter is not a firm covered in this review, a prior review, or the original LTFV investigation, but the manufacturer is, the cash deposit rate will be the rate established for the most recent period for the manufacturer of the merchandise; and (4) the cash deposit rate for all other manufacturers or exporters will continue to be 162.14 percent, the all-others rate established in the LTFV investigation. See Amended Final Determination and Antidumping Duty Order; Certain Forged Stainless Steel Flanges from India, 59 FR 5994, 5995 (February 9, 1994). These deposit requirements, when imposed, shall remain in effect until publication of the final results of the next administrative review.

Notification to Interested Parties

This notice also serves as a final reminder to importers of their responsibility under 19 CFR 351.402(f)(2) to file a certificate regarding the reimbursement of antidumping duties prior to liquidation of the relevant entries during this review period. Failure to comply with this requirement could result in the Department's presumption that reimbursement of antidumping duties occurred, and the subsequent assessment of double antidumping duties.

This notice also serves as a reminder to parties subject to administrative protective orders (APOs) of their responsibility concerning the disposition of proprietary information disclosed under APO in accordance with 19 CFR 351.305, which continues to govern business proprietary information in this segment of the proceeding. Timely written notification of the return or destruction of APO materials or conversion to judicial protective order is hereby requested. Failure to comply with the regulations and the terms of an APO is a sanctionable violation.

We are issuing and publishing this notice in accordance with sections 751(a)(1) and 777(i)(1) of the Tariff Act.

Dated: May 20, 2008.
David M. Spooner,
Assistant Secretary for Import Administration.

[FR Doc. E8-11996 Filed 5-28-08; 8:45 am]

BILLING CODE 3510-DR-S